FEDERAL COMMUNICATIONS COMMISSION

47 CFR Part 27

[WT Docket No. 03-66; RM-10586, FCC 04-135]

Facilitating the Provision of Fixed and Mobile Broadband Access, Educational and Other Advanced Services in the 2150-2162 and 2500-2690 MHz Bands

AGENCY: Federal Communications Commission.

ACTION: Final rule; correction.

SUMMARY: The Federal Communications Commission (FCC) is correcting a final rule that appeared in the Federal Register of December 10, 2004 (69 FR 72020). This document renamed the Instructional Television Fixed Service (ITFS) as the Educational Broadband Service (EBS) and renaming the Multichannel Multipoint Distribution Service (MMDS) and the Multipoint Distribution Service (MDS) as the Broadband Radio Service (BRS). The rules restructure the 2500-2690 MHz band, designate the 2495-2500 MHz band for use in connection with the 2500-2690 MHz band, establish a plan to transition licenses to the restructured 2500-2690 MHz band, adopt licensing, service, and technical rules to govern licensees in the EBS and BRS, permit spectrum leasing for BRS and EBS licensees under the Commission's secondary markets leasing policies and procedures, and permit unlicensed operation in the 2655-2690 MHz band.

DATES: Effective January 10, 2005.

FOR FURTHER INFORMATION CONTACT: Genevieve Ross or Nancy Zaczek at 202-418-2487.

SUPPLEMENTARY INFORMATION: In FR 04-26830 appearing on page 72020 in the Federal Register of Friday, December 10, 2004, the following corrections are made:

PART 27—[CORRECTED]

§ 27.50 [Corrected]

1. On page 72033, in the third column, section 27.50 is amended by adding paragraphs (h)(3) and (h)(4) as follows:

§ 27.50 Power limits.

* * * * *

(h) * * *

(3) For television transmission, the peak power of the accompanying aural signal must not exceed 10 percent of the peak visual power of the transmitter. The Commission may order a reduction in aural signal power to diminish the potential for harmful interference.

(4) For main, booster and response stations utilizing digital emissions with non-uniform power spectral density (e.g. unfiltered QPSK), the power measured within any 100 kHz resolution bandwidth within the 6 MHz channel occupied by the non-uniform emission cannot exceed the power permitted within any 100 kHz resolution bandwidth within the 6 MHz channel if it were occupied by an emission with uniform power spectral density, i.e., if the maximum permissible power of a station utilizing a perfectly uniform power spectral density across a 6 MHz channel were 2000 watts EIRP, this would result in a maximum permissible power flux density for the station of 2000/60 = 33.3 watts EIRP per 100 kHz bandwidth. If a non-uniform emission were substituted at the station, station power would still be limited to a maximum of 33.3 watts EIRP within any 100 kHz segment of the 6 MHz channel, irrespective of the fact that this would result in a total 6 MHz channel power of less than 2000 watts EIRP.”

* * * * *

§ 27.53 [Corrected]

2. On page 72034, in the second column, section 27.53 is amended by adding paragraphs (l)(6) and (l)(7) as follows:

§ 27.53 Emission limits.

* * * * *

(l) * * *

(6) Measurement procedure. Compliance with these rules is based on the use of measurement instrumentation employing a resolution bandwidth of 1 MHz or greater. However, in the 1 MHz bands immediately outside and adjacent to the frequency block a resolution bandwidth of at least one percent of the emission bandwidth of the fundamental emission of the transmitter may be employed. A narrower resolution bandwidth is permitted in all cases to improve measurement accuracy provided the measured power is integrated over the full required measurement bandwidth (i.e. 1 MHz or 1 percent of emission bandwidth, as specified). The emission bandwidth is defined as the width of the signal between two points, one below the carrier center frequency and one above the carrier center frequency, outside of which all emissions are attenuated at least 26 dB below the transmitter power. With respect to television operations, measurements must be made of the separate visual and aural operating powers at sufficiently frequent intervals to ensure compliance with the rules.

(7) Alternative out of band emission limit. Licensees in this service may establish an alternative out of band emission limit to be used at specified band edge(s) in specified geographical areas, in lieu of that set forth in this section, pursuant to a private contractual arrangement of all affected licensees and applicants. In this event, each party to such contract shall maintain a copy of the contract in their station files and disclose it to prospective assignees or transferees and, upon request, to the FCC.

* * * * *

§ 27.1221 [Corrected]

3. On page 72041, in the first column, section 27.1221 is amended by adding paragraphs (c), (d), and (e) as follows:

§ 27.1221 Interference protection.

* * * * *

(c) Protection for a Receiving-Antenna not Exceeding the Height Benchmark. A base station receive-antenna with an HAAT less than or equal to the height benchmark relative to a neighbor's transmitting base station will be protected if that station's HAAT exceeds its height benchmark. That station is required to take such measures to limit the undesired signal at the receiving base station to −109dBm or less.

(d) No Protection from a Transmitting-Antenna not Exceeding the Height Benchmark. A base station transmitting-antenna with an HAAT less than or equal to the height benchmark relative to a neighbor's receiving antenna is not required to protect that receiving station, regardless of the HAAT of that station.

(e) No Protection for a Receiving-Antenna Exceeding the Height Benchmark. A base station transmitting-antenna with an HAAT greater than the height benchmark relative to a neighbor's receiving antenna is not required to protect that receiving antenna if its HAAT is greater than its height benchmark.

Federal Communications Commission.
Marlene H. Dortch,
Secretary.

[FR Doc. 05-258 Filed 1-5-05; 8:45 am]

BILLING CODE 6712-01-P